DEPARTMENT OF THE INTERIOR

Minerals Management Service

Notice on Outer Continental Shelf Oil and Gas Lease Sales

AGENCY: Minerals Management Service, Interior.

ACTION: List of Restricted Joint Bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period May 1, 2004, through October 31, 2004. The List of Restricted Joint Bidders published in the Federal Register October 10, 2003, covered the period November 1, 2003, through April 30, 2004.

Group I. ExxonMobil Corporation

ExxonMobil Exploration Company

Group II. Shell Oil Company

Shell Offshore Inc.

SWEPI LP

Shell Frontier Oil & Gas Inc.

Shell Consolidated Energy Resources Inc.

Shell Land & Energy Company

Shell Onshore Ventures Inc.

Shell Offshore Properties and Capital II, Inc.

Shell Rocky Mountain Production LLC

Shell Gulf of Mexico Inc.

Group III. BP America Production Company

BP Exploration & Production Inc.

BP Exploration (Alaska) Inc.

Group IV. TOTAL E&P USA, Inc.

Group V. ChevronTexaco Corporation

Chevron U.S.A. Inc.

Texaco Inc.

Texaco Exploration and Production Inc.

Group VI. ConocoPhillips Company

Dated: March 22, 2004.
R. M. “Johnnie” Burton,
Director.

[FR Doc. 04-7770 Filed 4-5-04; 8:45 am]

BILLING CODE 4310-MR-P